DEPARTMENT OF JUSTICE

Antitrust Division

Notice Pursuant to the National Cooperative Research and Production Act of 1993—Defense Industrial Based Consortium

Notice is hereby given that, on July 2, 2025, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances. Specifically, Agile Operations, Inc., Fair Oaks Ranch, TX; Allen Control Systems, Inc., Austin, TX; Alta Resource Technologies, Inc., Boulder, CO; American Battery Materials, Inc., Greenwich, CT; American Renaissance Minerals LLC, Coral Gables, FL; Ampal, Inc., Palmerton, PA; Arcadia Minerals, Inc., Riverton, WY; ARCortex, Inc., Marina Del Rey, CA; Armada Systems, Inc., San Francisco, CA; ARMEL Corp., White Hall, AR; AsterTech LLC, Dayton, OH; Bascom Hunter Technologies, Inc., Baton Rouge, LA; Brimstone Energy, Inc., Oakland, CA; Buell Automatics, Inc., Rochester, NY; Cogency Power, Inc., Montrose, CO; Confidential Career Solutions LLC, Wylie, TX; Constellation Biomining LLC, Longview, TX; Covenant Industries, Inc., Great Neck, NY; Creative Engineers, Inc., New Freedom, PA; Crow Industries, Inc., Scottsdale, AZ; DeVal Life Cycle Support LLC, Philadelphia, PA; Discovery Machine, Inc., Williamsport, PA; Duranium, Inc., Alameda, CA; Ecoatoms, Inc., Reno, NV; Electronic Fluorocarbons LLC, Hopkinton, MA; Everest Metals Corporation Ltd., Perth WA, COMMONWEALTH OF AUSTRALIA; Evergreen Additive, Inc., Freeport, ME; Exergy Systems, Inc., Costa Mesa, CA; Flash Metals Texas, Inc., Houston, TX; Fonon Technologies, Inc., Orlando, FL; Found Energy Co., Wilmington, DE; General Inspection LLC, Davisburg, MI; Georgia Tech Applied Research Corp., Atlanta, GA; Giner, Inc., Auburndale, MA; GlycoSurf, Inc., Salt Lake City, UT; Gold 50 US, Inc., Reno, NV; Halo Materials, Inc., San Jose, CA; Illinois Quantum And Microelectronics Park LLC, Urbana, IL; Imvela Corp. dba Kingdom Supercultures, Brooklyn, NY; Intalus, Inc., Ashburn, VA; Intramotev, Inc., Saint Louis, MO; JLGOV LLC, Virginia Beach, VA; Kestrel Intelligence, Inc., Boise, ID; L3Harris Technologies, Inc.—Space and Airborne Systems, Clifton, NJ; LaunchPoint Electric Propulsion Solutions, Inc., Goleta, CA; Massachusetts Institute of Technology dba MIT Lincoln Laboratory, Lexington, MA; Maxterial, Inc., Pleasanton, CA; Mithril Mining Corp., Salt Lake City, UT; MY Ventures LLC, Catonsville, MD; NTH Cycle, Inc., Burlington, MA; Nyrstar Clarksville, Inc., Clarksville, TN; ObjectSecurity LLC, San Diego, CA; Olles Consulting & Contracting LLC, Hilton, NY; Ommio Health, Inc., Woodbridge, CT; Pacific Industrial Development Corp., Ann Arbor, MI; Palladium International LLC, Washington, DC; Parsons Environment & Infrastructure Group, Inc. dba Parsons Services Co of Texas, Charlotte, NC; PBS Aerospace, Inc., Atlanta, GA; Peak Nanosystems LLC, Richardson, TX; PHNX Materials, San Leandro, CA; Planate Management Group LLC, Orlando, FL; Precision Custom Components LLC, York, PA; Qualis LLC, Huntsville, AL; Quantum Leap Research LLC, Leesburg, VA; Rare Earth Technologies, Inc., Cincinnati, OH; Rare Innovation LLC, Sarasota, FL; Resilient Digital Ecosystem LLC, Tampa, FL; Rogue Space Systems Corp., Laconia, NH; SAPA Transmission, Inc., Shelby Township, MI; Saronic Technologies, Inc., Austin, TX; Science Systems & Applications, Inc., Lanham, MD; Skyplate Technology LLC, Orlando, FL; Society of Manufacturing Engineers, Southfield, MI; South32 Hermosa, Inc., Tucson, AZ; Southwest Energy Group LLC, Mesa, AZ; T & T Materials, Inc., Rochester, NY; Tetramer Technologies LLC, Pendleton, SC; The Butler Weldments Corporation dba Butler Weldments Corp., Cameron, TX; The Cohen Group LLC, Washington, DC; The Trustee for The DRM Trust (dba) Unidan Engineering, Gold Coast, COMMONWEALTH OF AUSTRALIA; Tidal Vision Products, Inc., Bellingham, WA; Travertine Technologies, Inc., Boulder, CO; University of Maine System dba University of Maine, Orono, ME; University of South Florida Institute of Applied Engineering, Inc., Tampa, FL; University of Tennessee, Knoxville, TN; URO Corporation Pty Ltd., Melbourne, COMMONWEALTH OF AUSTRALIA; US Critical Materials Corp., Salt Lake City, UT; USL LLC, Mesa, AZ; Volund Manufacturing, Inc., Silverado, CO; Wall Colmonoy Corp., Madison Heights, MI; Western Magnesium Corp., Las Vegas, NV; Westhem Resources LLC, Henrico, VA; Wildcat Discovery Technologies, Inc., San Diego, CA; Williams International Co. LLC, Pontiac, MI; Wind River Systems, Inc., Alameda, CA; WorkersFirst LLC, Virginia Beach, VA; and ZIGR, Inc., Smyrna, DE, have been added as parties to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

The last notification was filed with the Department on March 31, 2025. A notice was published in the Federal Register pursuant to section 6(b) of the Act on April 21, 2025 (90 FR 16703).

Suzanne Morris,
Deputy Director Civil Enforcement Operations, Antitrust Division.

[FR Doc. 2025-15453 Filed 8-13-25; 8:45 am]

BILLING CODE P